DEPARTMENT OF LABOR

Employment and Training Administration

[TA-W-62,515]

Drive Sol Global Steering, Inc., Steering Division, Formerly Known as Timken U.S. Corporation, Including On-Site Leased Workers of Kelly Services, Inc., Watertown, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on February 5, 2008, applicable to workers of Drive Sol Global Steering, Inc., Steering Division, Watertown, Connecticut. The notice was published in the Federal Register on February 22, 2008 (73 FR 9835). The certification was amended on March 10, 2008 to reflect the former employer's name. The notice was published in the Federal Register on March 17, 2008 (73 FR 14271).

At the request of the State agency, the Department reviewed the certification for workers of the subject firm. The workers are engaged in the production of steering mechanical shafts.

New information shows that leased workers of Kelly Services, Inc. were employed on-site at the Watertown, Connecticut location of Drive Sol Global Steering, Inc., Steering Division, formerly known as Timken U.S. Corporation. The Department has determined that the Kelly Services, Inc. workers were sufficiently under the control of the subject firm to be considered leased workers.

Based on these findings, the Department is amending this certification to include leased workers of Kelly Services, Inc. working on-site at the Watertown, Connecticut location of the subject firm

The intent of the Department's certification is to include all workers employed at Drive Sol Global Steering, Inc., Steering Division, formerly known as Timken U.S. Corporation, who were adversely affect by increased imports of steering mechanical shafts.

The amended notice applicable to TA-W-62,515 is hereby issued as follows:

All workers of Drive Sol Global Steering, Inc., Steering Division, formerly known as Timken U.S. Corporation, including on-site leased workers of Kelly Services, Inc., Watertown, Connecticut, who became totally or partially separated from employment on or after November 29, 2006, through February 5, 2010, are eligible to apply for adjustment assistance under Section 223 of the Trade Act of 1974, and are also eligible to apply for alternative trade adjustment assistance under Section 246 of the Trade Act of 1974.

Signed at Washington, DC, this 20th day of August 2008.
Linda G. Poole,
Certifying Officer, Division of Trade Adjustment Assistance.

[FR Doc. E8-20042 Filed 8-28-08; 8:45 am]

BILLING CODE 4510-FN-P